DEPARTMENT OF THE INTERIOR

Bureau of Land Management

[LLIDT03000-L14300000.EU0000; IDI-36320]

Notice of Realty Action; Extension of Temporary Segregation of Public Lands for Proposed Disposal in Blaine County, ID

AGENCY: Bureau of Land Management, Interior.

ACTION: Notice of realty action.

SUMMARY: This notice extends the temporary segregation on 2,480 acres of public lands in Blaine County, Idaho for up to 2 additional years.

FOR FUTHER INFORMATION CONTACT: Tara Hagen, Realty Specialist, Bureau of Land Management Shoshone Field Office, 400 West F Street, Shoshone, Idaho 83352 or by phone at (208) 732-7205.

SUPPLEMENTARY INFORMATION: Notification of a 2-year segregation of the following described public land from all forms of appropriation under the public land laws, including the mining laws, except the sale and exchange provisions of the Federal Land Policy and Management Act of 1976, appeared in the Federal Register on March 25, 2009 (74 FR 12890):

Boise Meridian

T. 2 S., R. 18 E.,

Secs. 25 and 26;

Sec. 27, lots 1 to 8, inclusive, E½, and E½W½;

Sec. 34, lot 1, N½NE¼, and NE¼NW¼;

Sec. 35, E½, and N½NW¼.

The area described contains approximately 2,480 acres in Blaine County.

The Bureau of Land Management (BLM) in cooperation with the Federal Aviation Administration (FAA) intends to prepare a management framework plan amendment and associated environmental impact statement (EIS) to consider the location and construction of a replacement airport for the Friedman Memorial Airport. This also involves the potential disposal of public land in Blaine County, Idaho. The FAA has been identified as the lead agency for the replacement airport EIS. The BLM is a cooperating agency, as one of the alternative sites occurs wholly on public land administered by the BLM. During processing of this complex EIS, the FAA has encountered unanticipated delays, including the need for additional geotechnical, noise, and water studies.

In accordance with 43 CFR 2711.1-2(d), the BLM Idaho State Director has determined that extension of the temporary segregation of the land described in this notice is necessary to provide sufficient time to complete the final processing steps required to consider these lands for disposal. The segregative effect will terminate non issuance of a patent, publication in the Federal Register of a termination of the segregation, or on March 24, 2013, whichever occurs first.

(Authority: 43 CFR 2711.1-2(d))

Ruth A. Miller,
Shoshone Field Manager.

[FR Doc. 2011-6751 Filed 3-22-11; 8:45 am]

BILLING CODE 4310-GG-P